DEPARTMENT OF THE TREASURY

Community Development Financial Institutions Fund

Funding Opportunities: Bank Enterprise Award (BEA) Program; FY 2021 Funding Round; Correction

AGENCY: Community Development Financial Institutions Fund, Department of the Treasury.

ACTION: Notice; correction.

SUMMARY: The Community Development Financial Institutions Fund (CDFI Fund) published a document in the Federal Register of October 14, 2021, concerning the Notice of Funds Availability (NOFA) inviting Applications for the Fiscal Year (FY) 2021 Funding Round of the Bank Enterprise Award Program (BEA Program). On page 57256, in Table 2—Eligibility Requirements for Applicants, under the Criteria header for CDFI Applicant, under the Description header, it incorrectly states that an eligible Certified CDFI Applicant is an Insured Depository Institution that must be certified as a CDFI as of December 31, 2020 when in fact an eligible Certified CDFI Applicant is an Insured Depository Institution that is certified or has submitted a Certification application by December 31, 2020, has been Certified as a CDFI as of the October 14, 2021 publication date of this NOFA in the Federal Register, and maintains its status as a Certified CDFI at the time BEA Program Awards are announced. Processing this Action will correct the misinformation that was published.

FOR FURTHER INFORMATION CONTACT: Tanya McInnis, Program Manager, Depository Institutions Initiatives, Bank Enterprise Award and Small Dollar Loan Programs, CDFI Fund; (202) 653-0309 (this is not a toll free number).

SUPPLEMENTARY INFORMATION:

Correction

In the Federal Register of October 14, 2021, in FR Vol. 86, No. 196, on page 57256, in Table 2—Eligibility Requirements for Applicants, under the Criteria header for CDFI Applicant, under the Description header, correct the first sentence to read:

For the FY 2021 funding round, an eligible Certified CDFI Applicant is: An Insured Depository Institution that is certified or has submitted its Certification application by December 31, 2020; was Certified as a CDFI as of the publication date of this NOFA in the Federal Register, which was on October 14, 2021; and maintains its status as a Certified CDFI at the time BEA Program Awards are announced under this NOFA.

Executive Summary: This notice announces the correction that eligible Certified CDFI Applicants must be Certified as a CDFI or have submitted an application for Certification by December 31, 2020 in order for the Application to receive priority funding consideration under the BEA Program NOFA.

Capitalized terms in this correction to the NOFA are defined in the authorizing statute, the Interim Rule, this NOFA, the Application, or the Uniform Requirements. Details regarding Application content requirements are found in the Application and related materials. Application materials can be found on Grants.gov and the CDFI Fund's website at www.cdfifund.gov/bea.

All other information and requirements set forth in the NOFA published on October 14, 2021, shall remain effective, as published.

Jodie L. Harris,
Director, Community Development Financial Institutions Fund.

[FR Doc. 2021-24542 Filed 11-5-21; 4:15 pm]

BILLING CODE P